NATIONAL AERONAUTICS AND SPACE ADMINISTRATION

[Notice 02-148]

Notice of Prospective Patent License

AGENCY: National Aeronautics and Space Administration.

ACTION: Notice of Prospective Foreign Patent License.

SUMMARY: NASA hereby gives notice that Phoenix Systems International, Inc., of Pinebrook, New Jersey, has applied for an exclusive foreign patent license to practice the invention described and claimed in KSC-12235, “High Temperature Decomposition of Hydrogen Peroxide,”—Application Serial No. 10/014,140 which is assigned to the United States of America as represented by the Administrator of the National Aeronautics and Space Administration. Phoenix Systems International, Inc., currently has an exclusive patent license with NASA for KSC-12235, “High Temperature Decomposition of Hydrogen Peroxide.” Written objections to the prospective grant of a license should be sent to Randy Heald, Patent Counsel, John F. Kennedy Space Center, Kennedy Space Center, FL 32899.

DATES: Responses to this Notice must be received by January 7, 2003.

FOR FURTHER INFORMATION CONTACT: Randall M. Heald, Assistant Chief Counsel/Patent Counsel, John F. Kennedy Space Center, Mail Code CC-A, Kennedy Space Center, FL 32899, telephone (321) 867-7214.

Dated: December 16, 2002.
Paul G. Pastorek,
General Counsel.

[FR Doc. 02-32179 Filed 12-20-02; 8:45 am]

BILLING CODE 7510-01-P